DEPARTMENT OF THE INTERIOR

Bureau of Land Management

[MT-072-1220-HB]

Notice of Proposed Supplementary Rules for Developed Recreation Sites Within the area managed by the Butte Field Office, Montana

AGENCY: Bureau of Land Management, Butte Field Office, Montana, Interior.

ACTION: Proposed supplementary rules.

SUMMARY: The Bureau of Land Management (BLM), Butte Field Office, is proposing supplementary rules. These supplementary rules will apply to the public lands within developed campgrounds and day-use areas managed by the Butte Field Office. BLM has determined these supplementary rules necessary to protect natural resources in the areas, to protect public health, to enhance the safety of area visitors and neighboring residents, and to provide campsites to visitors in a more equitable manner at higher use areas.

DATES: You should submit your comments on or before September 29, 2003. In developing final supplementary rules, BLM may not consider comments postmarked or received in person or by electronic mail after this date.

ADDRESSES: You may hand-deliver comments on the proposed rule to Bureau of Land Management, Butte Field Office, 106 N. Parkmont, Butte, Montana 59701, or mail comments to Bureau of Land Management, Butte Field Office, at the same address. You may also comment via the Internet to: MT_Butte_FO@blm.gov.

FOR FURTHER INFORMATION CONTACT: Brad Rixford, Outdoor Recreation Planner, 106 N. Parkmont, Butte, Montana 59701, 406-533-7600.

SUPPLEMENTARY INFORMATION:

I. Public Comment Procedures.

II. Background.

III. Areas Covered by the Supplementary Rules.

IV. Discussion of the Supplementary Rules.

V. Procedural Matters.

I. Public Comment Procedures

Please submit your comments on issues related to the proposed supplementary rules, in writing, according to the ADDRESSES section above. Comments on the proposed rule should be specific, should be confined to issues pertinent to the proposed supplementary rules, and should explain the reason for any recommended change. Where possible, your comments should reference the specific section or paragraph of the proposal that you are addressing. BLM may not necessarily consider or include in the Administrative Record for the final rule comments that BLM receives after the close of the comment period (see DATES) or comments delivered to an address other than those listed above (see ADDRESSES).

BLM will make your comments, including your name and address, available for public review at the Butte Field Office address listed in ADDRESSES above during regular business hours (8 a.m. to 4:30 p.m., Monday through Friday, except Federal holidays).

Under certain conditions, BLM can keep your personal information confidential. You must prominently state your request for confidentiality at the beginning of your comment. BLM will consider withholding your name, street address, and other identifying information on a case-by-case basis to the extent allowed by law. BLM will make available to the public all submissions from organizations and businesses and from individuals identifying themselves as representatives or officials of organizations or businesses.

II. Background

BLM is proposing these supplementary rules under the authority of 43 CFR 8365.1-6, which allows State Directors to issue such rules for the protection of persons, property, and public lands and resources. This provision allows BLM to issue rules of less than national effect without overloading or expanding the Code of Federal Regulations.

The overall program authority for the operation of these campgrounds is found in Sections 302 and 310 of the Federal Land Policy and Management Act of 1976 (43 U.S.C. 1732, 1740).

The campgrounds for which fees are charged are operated under the Fee Demo Project, which allows BLM to collect fees and use the revenues for the management of recreation sites within the state where the fees are collected.

III. Areas Covered by the Supplementary Rules

The proposed supplementary rules containing rules of conduct would apply to the developed campgrounds at Holter Dam, Holter Lake, Log Gulch, Departure Point, Devil's Elbow, Clark's Bay, Divide Bridge Campground, Upper Divide Bridge, Upper and Lower Toston Dam, Beartooth Landing, Carbella, Galena, Crow Creek, East Bank, Bryant Creek, Jerry Creek, and Dickie Bridge campgrpounds, except as otherwise noted in the specific supplementary rules. All of these campgrounds are on public lands managed by the Butte Field Office, BLM.

A second set of the supplementary rules relating to permits and campsite administration apply at Holter Dam, Holter Lake, Log Gulch, Departure Point, Devil's Elbow, Clark's Bay, Divide Bridge Campgrounds.

IV. Discussion of the Supplementary Rules

The rules of conduct in section 1 of the supplementary rules are self-explanatory and do not require any commentary here. However, the administrative rules in section 2 may need a bit of background explanation.

a. We would require that you pay for boat ramp and other day-use facilities before you launch or otherwise use them, rather than waiting for the end of the day when you may be in a hurry to return home. At campgrounds, the BLM personnel will advise you what campsites are available. Once you select a site, you must return to the entrance station to make payment and complete your registration.

b. Each campsite has a wooden post to which you must attach your payment receipt. This way, we can see that you are properly registered without searching around your vehicle or otherwise bothering you during your visit.

c. We have had problems with people claiming or holding campsites for friends arriving later by placing coolers, deck chairs, vehicles, or other equipment on the sites. This is unfair to other visitors. Our campsites are available first come, first served.

d. Because of increasing demand for recreational sites, and because some of BLM's sites have been closed for maintenance and road construction, we propose to reduce the length-of-stay rule from 14 to 7 days for some campgrounds, as listed. We may restore the longer term at a later date if it turns out that demand does not increase as we expect.

f. The same reasoning applies to claiming extra boat dock slips as to claiming extra campsites in paragraph c., discussed above.

h. We have had problems with vandalism and after-dark keg parties getting out of hand at the Clark's Bay day-use area, so we propose to close the area temporarily each day after dark to 9 a.m. from May through September and for the entire day during the off-season from October through April.

i. Although the Clark's Bay day-use area would be closed to vehicles and social gatherings during the periods identified in the preceding paragraph, individuals wishing to hike, jog, walk their dogs, or otherwise make pedestrian use of the area during the closure periods are welcome.

V. Procedural Matters

Executive Order 12866, Regulatory Planning and Review

These supplementary rules are not a significant regulatory action and are not subject to review by Office of Management and Budget under Executive Order 12866. These supplementary rules will not have an effect of $100 million or more on the economy. They are not intended to affect commercial activity, but contain rules of conduct for public use of certain recreational areas. They will not adversely affect, in a material way, the economy, productivity, competition, jobs, the environment, public health or safety, or State, local, or tribal governments or communities. These proposed supplementary rules will not create a serious inconsistency or otherwise interfere with an action taken or planned by another agency. The supplementary rules do not alter the budgetary effects of entitlements, grants, user fees, or loan programs or the right or obligations of their recipients; nor do they raise novel legal or policy issues.

Clarity of the Supplementary Rules

Executive Order 12866 requires each agency to write regulations that are simple and easy to understand. We invite your comments on how to make these proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce their clarity?

(4) Would the supplementary rules be easier to understand if they were divided into more (but shorter) sections?

(5) Is the description of the proposed supplementary rules in the SUPPLEMENTARY INFORMATION section of this preamble helpful in understanding the proposed supplementary rules? How could this description be more helpful in making the supplementary rules easier to understand?

Please send any comments you have on the clarity of the supplementary rules to the address specified in the ADDRESSES section.

National Environmental Policy Act

BLM has prepared an environmental assessment (EA) or management agreement and has found that the proposed supplementary rules would not constitute a major Federal action significantly affecting the quality of the human environment under section 102(2)(C) of the Environmental Protection Act of 1969 (NEPA), 42 U.S.C. 4332(2)(C). The supplementary rules merely contain rules of conduct for certain recreational lands in Montana. These rules are designed to protect the environment and the public health and safety. A detailed statement under NEPA is not required. BLM has placed the EA and the Finding of No Significant Impact (FONSI) on file in the BLM Administrative Record at the address specified in the ADDRESSES section. The BLM invites the public to review these documents and suggests that anyone wishing to submit comments in response to the EA and FONSI do so in accordance with the “Public comment procedure” section above.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The supplementary rules do not pertain specifically to commercial or governmental entities of any size, but to public recreational use of specific public lands. Therefore, BLM has determined under the RFA that these proposed supplementary rules would not have a significant economic impact on a substantial number of small entities.

Small Business Regulatory Enforcement Fairness Act (SBREFA)

These supplementary rules do not constitute a “major rule” as defined at 5 U.S.C. 804(2). Again, the supplementary rules merely contain rules of conduct for recreational use of certain public lands. The supplementary rules have no effect on business, commercial or industrial use of the public lands.

Unfunded Mandates Reform Act

These supplementary rules do not impose an unfunded mandate on State, local or tribal governments or the private sector of more than $100 million per year; nor do these proposed supplementary rules have a significant or unique effect on State, local, or tribal governments or the private sector. The supplementary rules do not require anything of State, local, or tribal governments. Therefore, BLM is not required to prepare a statement containing the information required by the Unfunded Mandates Reform Act (2 U.S.C. 1531 et seq.)

Executive Order 12630, Governmental Actions and Interference With Constitutionally Protected Property Rights (Takings)

The supplementary rules do not represent a government action capable of interfering with constitutionally protected property rights. The supplementary rules do not address property rights in any form, and do not cause the impairment of anybody's property rights. Therefore, the Department of the Interior has determined that the supplementary rules would not cause a taking of private property or require further discussion of takings implications under this Executive Order.

Executive Order 13132, Federalism

The supplementary rules will not have a substantial direct effect on the States, on the relationship between the national government and the States, or on the distribution of power and responsibilities among the various levels of government. The supplementary rules affect land in only one state, Montana, and do not address jurisdictional issues involving the State government. Therefore, in accordance with Executive Order 13132, BLM has determined that these proposed supplementary rules do not have sufficient Federalism implications to warrant preparation of a Federalism Assessment.

Executive Order 12988, Civil Justice Reform

Under Executive Order 12988, the Office of the Solicitor has determined that these proposed supplementary rules would not unduly burden the judicial system and that they meet the requirements of sections 3(a) and 3(b)(2) of the Order.

Paperwork Reduction Act

These proposed supplementary rules do not contain information collection requirements that the Office of Management and Budget must approve under the Paperwork Reduction Act, 44 U.S.C. 3501 et. seq.

Dated: May 7, 2003.
A. Jerry Meredith,
State Director, Acting, Bureau of Land Management, Montana State Office.

[FR Doc. 03-22060 Filed 8-27-03; 8:45 am]

BILLING CODE 4310-DN-P